DEPARTMENT OF THE TREASURY

Appointment of Members of the Legal Division to the Performance Review Board, Internal Revenue Service

Under the authority granted to me as Chief Counsel of the Internal Revenue Service by the General Counsel of the Department of the Treasury by General Counsel Directive 15, pursuant to the Civil Service Reform Act, I have appointed the following persons to the Legal Division Performance Review Board, Internal Revenue Service Panel:

1. Faris R. Fink, Commissioner (Small Business/Self Employed), IRS

2. Heather Maloy, Commissioner (Large Business and International), IRS

3. Priyia Aiyar, Deputy General Counsel

This publication is required by 5 U.S.C. 4314(c)(4).

Dated: October 29, 2013.
William J. Wilkins,
Chief Counsel, Internal Revenue Service.

[FR Doc. 2013-26391 Filed 11-4-13; 8:45 am]

BILLING CODE 4830-01-P